AGENCY FOR INTERNATIONAL DEVELOPMENT

Agency Information Collection Activities Comment Request; USAID Social, Economic, and Environmental Accountability Mechanism Complaint Submission Form

AGENCY: Agency for International Development (USAID).

ACTION: Notice of information collection; request for comment.

SUMMARY: In compliance with the Paperwork Reduction Act (PRA) of 1995, this notice announces that the Agency for International Development (USAID), is soliciting comments concerning the “Social, Economic, and Environmental Accountability Mechanism Complaint Submission Form.”

DATES: All comments should be submitted within 60 calendar days from the date of this publication.

ADDRESSES: To access and review all the documents related to the information collection listed in this notice, please use https://www.regulations.gov. Comments should be sent to www.reginfo.gov/public/do/PRAMain. Please note that USAID will not accept comments submitted after the comment period ends.

To access and review the documents related to the information collection listed in this notice, please access “Social, Economic, and Environmental Accountability Mechanism Complaint Submission Form” at https://drive.google.com/file/d/1qc3UQv4ZlEcfgbOMbRZHJgKy3SmmPrGP/view?usp=sharing.

Comments submitted in response to this notice should be submitted electronically through the Federal Register.

FOR FURTHER INFORMATION CONTACT: For specific questions related to collection activities, please contact Erika Drazen, accountability@usaid.gov, 771-217-2641.

SUPPLEMENTARY INFORMATION: USAID, in accordance with the Paperwork Reduction Act of 1995 (PRA) (44 U.S.C. 3506(c)(2)(A)), provides the general public and Federal agencies with an opportunity to comment on proposed, revised, and continuing collections of information. This helps USAID assess the impact of its information collection requirements and minimize the public's reporting burden. It also helps the public understand USAID's information collection requirements and provide USAID the data it requested in the format it prefers. USAID is soliciting comments on the proposed information collection request (ICR) that USAID describes below.

Title of Collection: USAID's Social, Economic, and Environmental Accountability Mechanism Complaint Submission Form.

OMB Control Number: Not yet assigned.

Type of Review: A new information collection.

Respondents/Affected Public: Program participants and project-affected people (and their representatives) harmed or potentially harmed by USAID projects or activities can submit complaints.

Total Estimated Number of Annual Respondents: 20.

Frequency: 1 per respondent per year.

Total Estimated Annual Burden Hours: 20 hours (20 respondents × 1 response per year × 1 hour per response).

Abstract: USAID's Social, Economic, and Environmental Accountability Mechanism (SEE-AM) Complaint Submission Form enables program participants and project-affected people (and their representatives) to submit concerns or complaints about social, economic, and environmental harms related to USAID-funded projects and activities. If the complaint is found eligible, the SEE-AM can offer two services:

• Problem Solving in which a neutral person assists both sides to help address the harm;

• Policy and Process Review in which the SEE-AM reviews USAID's policies and processes to understand why the harm happened and how USAID can prevent it in the future; or

• Both Problem Solving and Policy and Process Review.

Erika Drazen,
Accountability Mechanism Official (AMO), Bureau for Management, USAID.

[FR Doc. 2024-27465 Filed 11-22-24; 8:45 am]

BILLING CODE 6116-01-P